NATIONAL SCIENCE FOUNDATION

Proposal Review Panel for Materials Research; Notice of Meeting

In accordance with the Federal Advisory Committee Act (Pub. L. 92-463 as amended), the National Science Foundation announces the following meeting:

Name: Facility Operations Review Panel of the Division of Materials Research (1203).

Dates & Times: April 27, 28, 29, 2009.

Place: Cornell University, Ithaca, NY.

Type of Meeting: Part-open.

Contact Person: Dr. Guebre X. Tessema, Program Director, National Facilities Programs, Division of Materials Research, Room 1080, National Science Foundation, 4201 Wilson Boulevard, Arlington, VA 22230, Telephone (703) 292-4935.

Purpose of Meeting: To provide advice and recommendations concerning operations of the Cornell High Energy Synchrotron Source (DMR) # 0936384.

Agenda:

Monday, April 27

7 p.m.-8:30 p.m. Closed—Working Dinner and Executive Session.

Tuesday, April 28

8 a.m.-11:45 a.m. Open—CHESS Overview and Presentations by Principal Investigator and staff, Proposed Scientific Initiatives I.

11:45 a.m.-12:15 p.m. Closed—Executive Session.

12:15 p.m.-4:30 p.m. Open—Lunch with graduate students, tour of facilities, Presentations by Principal Investigator and staff, Proposed Scientific Initiatives II.

8 p.m.-10 p.m. Executive Session.

Wednesday, April 29

8 a.m.-3 p.m. Closed—Executive Sessions and report writing.

Reason for Closing: The work being reviewed may include information of a proprietary or confidential nature, including technical information; financial data, such as salaries and personal information concerning individuals associated with the proposals. These matters are exempt under 5 U.S.C. 552b(c), (4) and (6) of the Government in the Sunshine Act.

Susanne Bolton,
Committee Management Officer.

[FR Doc. E9-7970 Filed 4-7-09; 8:45 am]

BILLING CODE 7555-01-P